DEPARTMENT OF AGRICULTURE

Forest Service

Lower Trinity Ranger District, Six Rivers National Forest, California, Trinity Summit High Country Grazing Analysis

AGENCY: Forest Service, USDA.

ACTION: Notice of intent to prepare an environmental impact statement.

SUMMARY: The Six Rivers National Forest will prepare an Environmental Impact Statement to disclose the impacts associated with the following proposed action: The Lower Trinity Ranger District, Six Rivers National Forest, proposes to continue livestock grazing in the Trinity Summit High Country following an adaptive management process outlined under updated Allotment Management Plans.

The planning area is located on National Forest System lands administered by the Lower Trinity Ranger District in Humboldt County, California within the Upper Mill Creek and Tish Tang a Tang Creek watersheds to the east of Hoopa Reservation. The majority of the grazing lands fall within the Trinity Wilderness and are considered to be culturally significant. The grazing lands are located in all or portions of T.7N., R.6E., R.7E.; T.8N., R.5E.; R.6E., R.7E.; and T.9N., R.5E., R.6E., R.7E.

DATES: Comments concerning the scope of the analysis must be received by May 26, 2009.

ADDRESSES: Send written comments to Bill Rice, at Lower Trinity Ranger District, Highway 90, P.O. Box 68, Willow Creek, CA 95573 or phone (530) 629-2118. Comments may be submitted by e-mail in Word (.doc), rich text format (.rtf), text (.txt), and hypertext markup language (.html) to comments-pacificsouthwest-six-rivers-lower-trinity@fs.fed.us. Comments may also be hand delivered weekdays 8 a.m.- 4:30 p.m. at the Lower Trinity Range: District Office.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will become part of the public record for this proposed action. Comments submitted anonymously will be accepted and considered; however, anonymous comments will not provide the respondent with standing to participate in subsequent administratIve review or judicial review.

FOR FURTHER INFORMATION CONTACT: Bill Rice at Lower Trinity Ranger District (see address above) by phone at (530) 629-2118. Information regarding the Trinity Summit High Country Grazing analysis will also be posted on the Six Rivers National Forest Web page (http://www.fs.fed.us/r5/sixrivers/).

Individuals who use telecommunication devices for the deaf (TDD) may call the Federal Information Relay Service (FIRS) at 1-800-877-8339 between 8 a.m. and 8 p.m., Eastern Standard Time, Monday through Friday.

SUPPLEMENTARY INFORMATION:

Where consistent with the goals and objectives of the Six Rivers National Forest Land and Resource Management Plan, it is Forest Service policy to make forage from lands suitable iou grazing available to qualified livestock operators (FSM 2202.1, FSM 2203.1,36 CFR 222.2(c), Multiple Use and Sustained Yield Act of 1960, Wilderness Act of 1964, Forest and Rangeland Renewable Resources Planning Act of 1974, Federal Land Management and Policy Act of 1976, National Forest Management Act of 1976). The allotments in this analysis include lands identified as suitable for grazing in the LRMP and are being managed for grazing. Federal actions such as authorization of grazing and approval of allotment management plans must be analyzed to determine potential environmental consequences (National Environmental Policy Act of 1969, NEPA; Rescission Act of 1995 Pub. L. 104).

Estimated Dates

The draft environmental impact statement is expected July 2009 and the final environmental impact statement is expected October 2009.

Purpose and Need for Action

The purpose and need for action centers on maintaining a grazing program under updated Allotment Management Plans for the purposes of contributing to the economic stability of local livestock owners who rely on public land grazing for their livelihood; sustainably managing for healthy rangeland ecosystems that maintain biologic diversity, water quality, soil productivity, quality fish and wildlife habitat; and preserving and enhancing the character of culturally significant landscapes.

As directed by the Six Rivers National Forest Land and Resource Management Plan (LRMP), the opportunity to graze must also be consistent with the values and uses of other resources. Range, as well as all other resources within the grazing allotments, should be maintained in satisfactory condition. Because unsatisfactory resource conditions have been identified at key areas within the allotments, action is required that will help restore disturbed areas by using the natural resiliency of the landscape in conjunction with conservative, adaptive management.

Range management uses key areas and benchmark sites which are designed to serve as examples average use and conditions throughout each allotment; therefore, their status is thought to reflect wider ecosystem processes and the effects of grazing management across the landscape. Current unsatisfactory resource conditions at key areas and benchmark sites represent a need to change or refine grazing management strategies to achieve resource objectives. Sustaining desired conditions at key areas will help to ensure that desired conditions are sustained elsewhere within the allotments.

Proposed Action

The Lower Trinity Ranger District, Six Rivers National Forest, proposes to continue livestock grazing in the Trinity Summit High Country area under the conditions described below and to implement boundary and administrative changes to facilitate improved management. The Mill Creek and Trinity Summit grazing allotments would be combined into a single allotment. A non-significant Forest Plan amendment is proposed to modify the allotment boundary to include a 225-acre area on the western boundary of the current allotment (T.8 N., R 6 E. Section 3).

The Forest also proposes to authorize cattle grazing following an adaptive management process that will meet LRMP goals, objectives, standards and guidelines, and other legal requirements while moving toward desired conditions. This proposed action establishes a maximum stocking rate and season of use based on what the landscape can sustain under satisfactory range and riparian conditions.

Responsible Official

Tyrone Kelley, Forest Supervisor, Six Rivers National Forest, 1330 Bayshore Way, Eurela, CA 95501.

Nature of Decision To Be Made

The responsible official will decide whether to adopt and implement the proposed action, an alternative to the proposed action, or the no action (no grazing) alternative.

Scoping Process

This notice of intent initiates the scoping process which guides the development of the environmental impact statement. Public meetings are being scheduled to share information regarding this project. Meeting dates and locations will be posted in the newspaper of record or contact Bill Rice at (503) 629-2118.

Comment Requested

The comment period on the draft environmental impact statement will be 45 days from the date the Environmental Protection Agency publishes the notice of availability in the Federal Register.

The Forest Service believes, at this early state, it is important to give reviewers notice of several court rulings related to public participation in the environmental review process. First, reviewers of draft environmental impact statements must structure their participation in the environmental review of the proposal so that it is meaningful and alerts an agency to the reviewer's positions and contentions. Vermont Yankee Nuclear Power Corp. v. NRDC, 435 U.S. 519, 553 (1978). Also, environmental objections that could be raised at the draft environmental impact statement stage but that are not raised until after completion the final environmental impact statement may be waived or dismissed by the courts. City of Angoon v. Hodel, 803 F.2d 1016, 1022 (9th Cir. 1986) and Wisconsin Heritages, Inc. v. Harris, 490 F. Supp. 1334, 1338 (E.D. Wis. 1980). Because at these court rulings, it is very important that those interested in this proposed action participate by the close of the 45 comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: April 17, 2009.
Tyrone Kelley,
Forest Supervisor.

[FR Doc. E9-9328 Filed 4-23-09; 8:45 am]

BILLING CODE 3410-11-P